DEPARTMENT OF JUSTICE

8 CFR Parts 1003, 1103, 1208, 1211, 1212, 1215, 1216, and 1235

21 CFR Chapter II

27 CFR Parts 478 and 479

28 CFR Parts 20, 506, 545, 549, 552, 570, 571 and 572

[Docket No. OAG 190; AG ORDER No. 6393-2025]

RINs 1110-AA24, 1117-AB60, 1117-AB74, 1117-AB75, 1117-AB84, 1120-AB10, 1120-AB10, 1120-AB56, 1120-AB61, 1120-AB67, 1120-AB69, 1120-AB78, 1125-AA52, 1125-AA71, 1140-AA23, 1140-AA47

Department of Justice; Withdrawal of Rulemaking Actions

AGENCY: Office of the Attorney General, Department of Justice.

ACTION: Withdrawal of rulemaking actions.

SUMMARY: The Department of Justice (“DOJ” or “the Department”) is withdrawing 16 Notices of Proposed Rulemaking (“NPRMs”), Advance Notices of Proposed Rulemaking (“ANPRMs”), and Supplemental Notices of Proposed Rulemaking (“SNPRMs”) as well as 38 other previously announced regulatory actions. The Department is withdrawing these actions as part of the Federal Government's deregulatory initiative and because of ongoing assessments of agency needs, priorities, and objectives.

DATES: As of September 11, 2025, the NPRMs, ANPRMs, SNPRMs, and other previously announced rulemakings listed below in Table 1 and Table 2 are withdrawn.

FOR FURTHER INFORMATION CONTACT: Christina Greer, Senior Counsel, Office of Legal Policy, Department of Justice, Room 4254, 950 Pennsylvania Avenue NW, Washington, DC 20530; telephone: (202) 514-5739 (not a toll-free call).

SUPPLEMENTARY INFORMATION: On January 31, 2025, President Donald J. Trump issued an Executive Order entitled “Unleashing Prosperity Through Deregulation,” E.O. 14192, 90 FR 9065 (Jan. 31, 2025), “to promote prudent financial management and alleviate unnecessary regulatory burdens.” Id. at 9065. He stated that “[i]t is the policy of the executive branch to be prudent and financially responsible in the expenditure of funds, from both public and private sources, and to alleviate unnecessary regulatory burdens placed on the American people.” Id. E.O. 14192 imposes a regulatory cap for fiscal year 2025 and instructs the heads of all agencies “to ensure that the total incremental cost of all new regulations” issued during the year is “significantly less than zero.” Id. Additionally, any new incremental costs must “be offset by the elimination of existing costs associated with at least 10 prior regulations.” Id.

Since President Trump's announcement of a deregulatory effort through E.O. 14192, the Department has carefully reviewed its pending rulemakings and has identified actions that do not align with current agency needs, priorities, and objectives, including the best means of addressing some or all of the issues covered by these actions. Some of the actions so identified have been published in the Federal Register as NPRMs, ANPRMs, or SNPRMs. Other actions have been included in one or more editions of the Unified Agenda of Regulatory and Deregulatory Actions (the “Unified Agenda”) ¹ but have not resulted in any publications in the Federal Register.

¹ As of the date of drafting this FRN, the most recently issued edition of the Unified Agenda of Regulatory and Deregulatory Actions was the Fall 2024 edition, which was withdrawn from the Federal Register but remains available on the website of the Office of Management and Budget's Office of Information and Regulatory Affairs at https://www.reginfo.gov/public/do/eAgendaHistory. The Department's entries in the Fall 2024 edition may be viewed at the following addresses: (1) the current actions are available at https://perma.cc/JT2M-KZXE; (2) the long-term actions are available at https://perma.cc/Y9A2-H2DZ; and (3) the inactive actions are available at https://perma.cc/W5Y4-7UW6.

Accordingly, the Department is withdrawing the 16 published NPRMs, ANPRMs, and SNPRMs listed in Table 1, for which the Department plans no further action. Similarly, the Department is also withdrawing the 38 projected rulemakings listed in Table 2 previously included in the Unified Agenda that the Department no longer intends to pursue.

Table 1—Previously Published NPRMs and ANPRMs Being Withdrawn
RIN | DOJ component | Citation
1110-AA24 | FBI | Carriage of Concealed Weapons Pursuant to Public Law 108-277; the Law Enforcement Officers Safety Act of 2003, 72 FR 2817 (Jan. 23, 2007) (NPRM).
1117-AB60 | DEA | Providing Controlled Substances to Ocean Vessels, Aircraft, and Other Entities, 87 FR 42662 (July 18, 2022) (ANPRM).
1117-AB74 | DEA | Regulation of Telepharmacy Practice, 86 FR 64096 (Nov. 17, 2021) (ANPRM).
1117-AB75 | DEA | Schedules of Controlled Substances; Exempted Prescription Products, 87 FR 21588 (Apr. 12, 2022) (NPRM).
1117-AB84 | DEA | Controlled Substance Destruction Alternatives to Incineration, 88 FR 74379 (Oct. 31, 2023) (ANPRM).
1120-AB10 | BOP | Compassionate Release, 81 FR 36485 (June 7, 2016) (NPRM).
1120-AB10 | BOP | Reduction in Sentence for Medical Reasons, 71 FR 76619 (Dec. 21, 2006) (NPRM).
1120-AB56 | BOP | Inmate Commissary Account Deposit Procedures, 80 FR 38658 (July 7, 2015) (NPRM).
1120-AB61 | BOP | Pre-Release Community Confinement, 76 FR 58197 (Sept. 20, 2011) (NPRM).
1120-AB67 | BOP | Use of Chemical Agents or Other Less-Than-Lethal Force in Immediate Use of Force Situations, 81 FR 10153 (Feb. 29, 2016) (NPRM).
1120-AB69 | BOP | Infectious Disease Management: Voluntary and Involuntary Testing, 80 FR 73153 (Nov. 24, 2015) (NPRM).
1120-AB78 | BOP | Inmate Financial Responsibility Program: Procedures, 88 FR 1331 (Jan. 10, 2023) (NPRM); Inmate Financial Responsibility Program: Procedures, 89 FR 102022 (Dec. 17, 2024) (SNPRM).
1125-AA52 | EOIR | Jurisdiction and Venue in Removal Proceedings, 72 FR 14494 (Mar. 28, 2007) (NPRM).
1125-AA71 | EOIR | Retrospective Regulatory Review Under E.O. 13563, 77 FR 59567 (Sept. 28, 2012) (ANPRM).
1140-AA23 | ATF | Machine Guns, Destructive Devices, and Certain Other Firearms; Amended Definition of “Pistol” (2003R-33P), 70 FR 17624 (Apr. 7, 2005) (NPRM).
1140-AA47 | ATF | Amended Definition of “Adjudicated as a Mental Defective” and “Committed to a Mental Institution” (2010R-21P), 79 FR 774 (Jan. 7, 2014) (NPRM).

Table 2—Rulemakings Included in the Unified Agenda But Not Published in the Federal Register
RIN | DOJ component | Title
1105-AB12 | EOUST | Procedures for Suspension and Removal of Panel Trustees and Standing Trustees.
1105-AB65 | OLP | Ensuring Fairness and Consistency in the Administration of Sentences in Federal Capital Cases.
1105-AB74 | CRM | Asset Forfeiture Program Victim, Owner, and Lienholder Remission and Mitigation.
1105-AB76 | PARDON | Office of the Pardon Attorney; Rules Governing Petitions for Executive Clemency, Notification of Denial of Clemency or Case Closure.
1105-AB77 | OLP | Floodplain Management and Wetland Protection.
1110-AA38 | FBI | Regulatory Updates to Implement Policy—National Instant Criminal Background Check System (NICS).
1117-AB50 | DEA | Amendments to the Drug Enforcement Administration Hearing Regulations.
1117-AB52 | DEA | Principal Place of Business or Professional Practice.
1117-AB59 | DEA | Electronic Submission of DEA Form 41 (Registrant Record of Controlled Substances Destroyed).
1117-AB63 | DEA | Termination of Registration Upon Discontinuation of Business or Change of Ownership.
1117-AB65 | DEA | Disaster Registration Emergency Authorities.
1117-AB67 | DEA | Campus Registration.
1117-AB68 | DEA | Employment Bar and New Employment Waivers.
1117-AB69 | DEA | Operation of Automated Dispensing Systems at Long Term Care Facilities by Hospital/Clinic Pharmacies.
1117-AB71 | DEA | Medical Missions.
1117-AB76 | DEA | Amending Regulations to Separate K-9 Handlers From the Researcher Category.
1117-AB77 | DEA | Analytical Labs and Hemp.
1117-AB83 | DEA | Medical Marijuana and Cannabidiol Research Expansion.
1117-AB86 | DEA | Revision of Application for Manufacturing Quota.
1121-AA90 | OJP | Updating Appendix D to 28 CFR Part 61, Office of Justice Programs Procedures Relating to Implementation of the National Environmental Policy Act.
1125-AA63 | EOIR | Application of the Serious Nonpolitical Crime Bar to Asylum and Withholding of Removal for Recruitment or Use of Child Soldiers.
1125-AA73 | EOIR | Procedures for Cases Involving Mentally Incompetent Aliens.
1125-AA82 | EOIR | Civil Enforcement Actions for Document Fraud Under Section 274C of the Immigration and Nationality Act; Authority of EOIR's Anti-Fraud Officer.
1125-AB05 | EOIR | Procedures to Commence Proceedings Before the Immigration Court.
1125-AB12 | EOIR | Procedures for Asylum and Bars to Asylum Eligibility.
1125-AB13 | EOIR | Clarifying Definitions and Analyses for Fair and Efficient Asylum and Other Protection Determinations.
1125-AB16 | EOIR | Executive Office for Immigration Review; Office of Legal Access Programs.
1125-AB17 | EOIR | EOIR Organization; EOIR Director's Authority.
1125-AB19 | EOIR | Executive Office for Immigration Review; Fee Review.
1125-AB22 | EOIR | Hearing Requirements and Application Procedures for Asylum and Related Protection.
1125-AB24 | EOIR | Inadmissibility on Public Charge Grounds.
1125-AB25 | EOIR | Asylum Eligibility; Persecutor Bar.
1125-AB27 | EOIR | Clarifying and Revising Custody Determination Procedures for Noncitizens Subject to Discretionary Detention (INA 236(a)/8 U.S.C. 1226 detention).
1125-AB31 | EOIR | Consideration of Non-LPR Cancellation of Removal Applications.
1140-AA36 | ATF | Commerce in Explosives—Relief From Disabilities.
1140-AA48 | ATF | Nonimmigrant Alien Waiver (NIA Rule).
1190-AA76 | CRT | Nondiscrimination on the Basis of Disability by State and Local Governments and Places of Public Accommodation; Equipment and Furniture.
1190-AA77 | CRT | Nondiscrimination on the Basis of Disability by State and Local Governments; Public Right-of-Way.

Dated: September 8, 2025.
Pamela Bondi,
Attorney General.

[FR Doc. 2025-17526 Filed 9-10-25; 8:45 am]

BILLING CODE P